DEPARTMENT OF COMMERCE

National Oceanic and Atmospheric Administration

Notice of Availability of Draft Scientific Assessment for Public Comment

AGENCY: The National Oceanic and Atmospheric Administration (NOAA) on Behalf of the United States Global Change Research Program (USGCRP)

ACTION: Notice of availability of draft scientific assessment for public comment.

SUMMARY: The National Oceanic and Atmospheric Administration (NOAA) is publishing this notice on behalf of the United States Global Change Research Program (USGCRP) to announce the availability of a draft assessment, the Climate Science Special Report, for a 45-day public review, collected comments will be carefully reviewed by the relevant chapter author teams. Following revision and further review, a revised draft will undergo final Federal interagency clearance.

Context: The U.S. Global Change Research Program (USGCRP) is mandated under the Global Change Research Act (GCRA) of 1990 to conduct a quadrennial National Climate Assessment (NCA). Under its current decadal strategic plan (http://go.usa.gov/3qGU4), USGCRP is building sustained assessment capacity. The sustained assessment supports the Nation's ability to understand, anticipate, and respond to risks and potential impacts brought about by global environmental change. As part of the ongoing NCA process, a Climate Science Special Report is being developed to inform the assessment. The last NCA from 2014 (NCA3: http://nca2014.globalchange.gov) and the process to develop it provided a foundation for subsequent activities and reports. This special report provides an update to the physical climate science presented in the 2014 National Climate Assessment (NCA). Specifically, the special report updates Chapter 2 and Appendices 3 and 4 of the 2014 NCA (http://www.globalchange.gov/nca3-downloads-materials). The report provides updated climate science findings and projections, and is an important input to the authors of the next quadrennial NCA, expected in 2018.

DATES: Comments on this draft scientific assessment must be received by 11:59 p.m. ET on 28 January 2017.

ADDRESSES: The draft USGCRP Climate Science Special Report can be accessed via the USGCRP Open Notices page (http://www.globalchange.gov/notices) or directly at the USGCRP Review and Comment System (https://review.globalchange.gov/). Registration details can be found on the review site home page, and review instructions on a dedicated special report page where comments from the public will be accepted electronically. Comments may be submitted only via this online mechanism.

All comments received through this process will be considered by the relevant chapter authors without knowledge of the commenters' identities. When the final assessment is issued, the comments and the commenters' names, along with the authors' responses, will become part of the public record and made available on http://www.globalchange.gov. Information submitted by a commenter as part of the registration process (such as an email address) will not be disclosed publicly.

Instructions: Response to this notice is voluntary. Responses to this notice may be used by the government for program planning on a non-attribution basis. NOAA therefore requests that no business proprietary information or copyrighted information be submitted in response to this notice. Please note that the U.S. Government will not pay for response preparation, or for the use of any information contained in the response.

FOR FURTHER INFORMATION CONTACT:

USGCRP Contact: David Dokken; telephone 202-419-3473; or email: ddokken@usgcrp.gov.

NOAA Contact: David Fahey; telephone 303-497-5277; or email: david.w.fahey@noaa.gov.

SUPPLEMENTARY INFORMATION: The Climate Science Special Report is a product of the USGCRP, organized and led by an interagency team. The draft assessment was written by Federal and non-Federal authors identified via an Open Call for nominations (https://www.federalregister.gov/documents/2016/03/31/2016-07208/united-states-global-change-research-program). An interagency Federal steering committee selected authors based on their demonstrated subject matter expertise, relevant publications, and knowledge of specific topics designated in an outline included in the special report prospectus (https://downloads.globalchange.gov/cssr/USGCRP_CSSR-Prospectus_FINAL.pdf). The draft assessment responds to the 1990 Congressional mandate to periodically produce National Climate Assessments and to assist the nation in understanding, assessing, predicting, and responding to human-induced and natural processes of global change. The report adheres to the Information Quality Act requirements (http://www.cio.noaa.gov/services_programs/info_quality.html) for quality, transparency, and accessibility as appropriate for a Highly Influential Scientific Assessment (HISA).

Dated: Tuesday, December 6, 2016.
Dan Barrie,
Program Manager, Assessments Program, NOAA Climate Program Office.
Dated: December 9, 2016.
Jason Donaldson,
Chief Financial Officer, Office of Oceanic and Atmospheric Research, National Oceanic and Atmospheric Administration.

[FR Doc. 2016-30102 Filed 12-14-16; 8:45 am]

BILLING CODE P